DEPARTMENT OF HEALTH AND HUMAN SERVICES

Health Resources and Services Administration

Agency Information Collection Activities: Proposed Collection Comment Request: In compliance with the requirement for opportunity for public comment on proposed data collection projects (section 3506(c)(2) of Title 44, United States Code, as amended by the Paperwork Reduction Act of 1995, Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: Charitable Facility Compliance Alternative (amended), Final Rule (OMB No. 0915-0256)—Extension

The Hill-Burton uncompensated services regulations contain information collection requirements in 42 CFR Part 124 which are needed in order to grant certifications to eligible facilities. The charitable facility compliance alternative contains specific reporting requirements. 42 CFR 124.516(d) requires certain information for initial full or provisional certification of nonprofit facilities under the charitable facility compliance alternative. Information for certification of facilities under the charitable facility compliance alternative is needed by the Health Resources and Services Administration to verify that the facilities meet the requirements of the compliance alternative. Information collected for certification consists primarily of: Audited financial statements; philanthropic documentation specifically related to the provision of discounted health services; a description of the discounted or charity care program; documentation confirming the facility's commitment to provide all services to all patients or those patients with incomes up to three times the poverty level for nursing homes and twice the poverty level for all other facilities at no charge or at a discount; and, charging and collection policy and procedures.

The burden estimate for this project is as follows:

Application | Number of respondents | Number of responses per respondent | Total responses | Hours per response | Total burden hours
Application for Compliance Alternative (42 CFR 124.516(d)) | 5 | 1 | 5 | 6 | 30
Certifications in Years 2 and 3 | 5 | 2 | 10 | .5 | 5
Total | 5 |  | 15 |  | 35

Send comments to Susan G. Queen, Ph.D., HRSA Reports Clearance Officer, Room 14-33 Parklawn Building, 5600 Fishers Lane, Rockville, Maryland 20857. Written comments should be received with 60 days of this notice.

Dated: June 21, 2004.
Tina M. Cheatham,
Director, Division of Policy Review and Coordination.

[FR Doc. 04-14594 Filed 6-25-04; 8:45 am]

BILLING CODE 4165-15-P